DEPARTMENT OF ENERGY

Federal Energy Regulatory Commission

[Docket No. EC04-105-000, et al.]

Commonwealth Atlantic Limited Partnership, et al.; Electric Rate and Corporate Filings

May 17, 2004.

The following filings have been made with the Commission. The filings are listed in ascending order within each docket classification.

1. Commonwealth Atlantic Limited Partnership; Exodus Energy LLC; and Exodus Energy Commonwealth Holdings LLC

[Docket Nos. EC04-105-000 and ER90-24-003]

Take notice that on May 12, 2004, Commonwealth Atlantic Limited Partnership, Exodus Energy LLC and Exodus Energy Commonwealth Holdings LLC (together, Applicants) filed with the Commission an application under section 203 of the Federal Power Act for authorization and notice of change in status with respect to an indirect transfer of an approximately 49.999 percent of the partnership interests in Commonwealth Atlantic Limited Partnership to Exodus Energy LLC. Applicants state that the jurisdictional facilities transferred consist of books and records, Commonwealth Atlantic Limited Partnership's market-based rate tariff and related contracts, and the interconnection equipment associated with the generating facility.

Comment Date: June 1, 2004.

2. Duke Energy North America, LLC, Duke Energy Trading and Marketing, L.L.C., Duke Energy Marketing America, LLC and KGen Partners, Inc.

[Docket No. EC04-106-000]

Take notice that on May 13, 2004, Duke Energy North America, LLC (DENA), Duke Energy Trading and Marketing, L.L.C. (DETM), Duke Energy Marketing America, LLC (DEMA), and KGen Partners LLC (KGen) filed with the Commission a joint application pursuant to section 203 of the Federal Power Act for Commission approval of the transfers of direct and indirect interests in jurisdictional facilities. Specifically, DENA proposes to transfer to KGen the membership interests in jurisdictional facilities. Specifically, DENA proposes to transfer to KGen the membership interests DENA owns in the following companies: Duke Energy Enterprises, LLC; Duke Energy Hinds, LLC; Duke Energy Hot Springs, LLC; Duke Energy Marshall County, LLC; Duke Energy Murray LLC; Duke Energy New Albany, LLC; Duke Energy Sandersville, LLC; and Duke Energy Southaven, LLC (collectively, the Project Companies). DENA states that each of the Project Companies either directly owns or controls a generation facility located in the Southeastern Electric Reliability Council region of United States. DETM and DEMA propose to assign to either KGen or one of the Project Companies certain related wholesale power sale and purchase agreements.

DENA states that copies of this Joint Application are being served upon the Public Utilities Commissions of the States of Kentucky, Arkansas, Mississippi, and Georgia.

Comment Date: June 17, 2004.

3. Riverside Energy Center, LLC

[Docket No. EC04-107-000]

Take notice that on May 13 2004, Riverside Energy Center, LLC (Applicant) tendered for filing an application under section 203 of the Federal Power Act for approval of the acquisition of the securities of Rocky Mountain Energy Center, LLC, an affiliated public utility.

Comment Date: June 3, 2004.

4. Duke Energy Enterprise, LLC; Duke Energy Hinds, LLC; Duke Energy Hot Spring, LLC; Duke Energy Marshall County, LLC; Duke Energy Murray, LLC; Duke Energy New Albany, LLC; Duke Energy Sandersville, LLC; and Duke Energy Southaven, LLC

[Docket Nos. ER02-565-005; ER01-691-006; ER02-694-005; ER02-530-006; ER02-302-006; ER02-171-005; ER02-1024-006; and ER02-583-005]

Take notice that on May 13, 2004, KGen Partners LLC (KGen) filed with the Commission notifications of a change in status with respect to the Commission's grant of market-based rate authority to Duke Energy Enterprise, LLC, Duke Energy Hinds, LLC, Duke Energy Hot Spring, LLC, Duke Energy Marshall County, LLC, Duke Energy Murray, LLC, Duke Energy New Albany, LLC, Duke Energy Sandersville, LLC and Duke Energy Southaven, LLC (the Project Companies). KGen states that the change in status will result from the disposition of jurisdictional facilities that will occur in connection with the transfer by Duke Energy North America, LLC (DENA) to KGen of all of DENA's membership interests in the Project Companies. KGen further states that the notifications of change of status for each of the Project Companies are conditioned on the approval of a separate section 203 application filed concurrently with this filing (section 203 Application) and the closing of the proposed transaction for which the section 203 Application seeks approval.

Comment Date: June 3, 2004.

5. WPS Canada Generation, Inc., Maine Public Service Company, and the Northern Maine Independent System Administrator, Inc.

[Docket Nos. ER03-689-003 and ER04-210-001]

Take notice that on May 13, 2004, WPS Canada Generation, Inc. (WPS Canada) tendered for filing with the Commission a refund report as required by the February 10, 2004, settlement agreement that was accepted by Commission in the order issued April 14, 2004, in Docket No. ER03-689-000, et al., 107 FERC ¶ 61,020.

WPS Canada states that copies of the filing were served on Maine Public Service Company, the Maine Public Utilities Commission, the Northern Maine Independent System Administrator, Inc. and the official service list in the above-captioned proceeding.

Comment Date: June 3, 2004.

6. Cleco Power LLC

[Docket No. ER04-838-000]

Take notice that on May 13, 2004, Cleco Power LLC (Cleo Power), tendered for filing a Third Revised Service Agreement No. 66, under FERC Electric Tariff Original Volume No. 1. Cleco Power LLC states that the filing reflects revisions to the agreement made in section 1.3, Commercial Operation Date and that the Commercial Operation Date of June 1, 2005, has been revised to reflect a later date of June 1, 2006. Cleco Power requests an effective date of June 1, 2004.

Comment Date: June 3, 2004.

7. MAG Energy Solutions, Inc.

[Docket No. ER04-839-000]

Take notice that on May 13, 2004, MAG Energy Solutions, Inc. (MAG E.S.) filed a request for acceptance of MAG E.S. Rate Schedule FERC No. 1; the grant of certain blanket approvals, including the authority to sell electricity at market-based rates; and the waiver of certain Commission regulations. MAG E.S. states that (1) it is an independent Canadian corporation with no affiliation of any kind with other corporations; (2) it intends to engage in wholesale electric power and energy purchases and sales as a marketer; and (3) that it is not in the business of generating or transmitting electric power.

Comment Date: June 3, 2004.

8. American Electric Power Service Corporation

[Docket No. ER04-840-000]

Take notice that on April 29, 2004, American Electric Power Service Corporation (AEP) on behalf of Kentucky Power Company and EnviroPower, L.L.C., filed (1) a request for withdrawal of AEP's Notice of Cancellation of an Interconnection and Operations Agreement between AEP and Kentucky Mountain Power, L.L.C., a subsidiary of EnviroPower filed on November 18, 2003, in Docket No. ER04-200-000; (2) a request for withdrawal EnvironPower's Motion for Leave to Intervene Out-of-time and Application for Rehearing or Reconsideration filed on February 11, 2004, in Docket No. ER04-200-002; and (3) a request by AEP and EnviroPower for the Commission to vacate the Letter Orders issued January 12 and 13, 2004, in Docket No. ER04-200-000.

Comment Date: May 27, 2004.

9. USGen New England, Inc.

[Docket No. ER04-841-000]

Take notice that on May 14, 2004, USGen New England, Inc. (USGenNE) filed, pursuant to section 205 of the Federal Power Act, a Reliability Agreement between the ISO New England Inc. (the ISO) and USGenNE for USGenNE's 763 MW Salem Harbor generation station located in Salem, Massachusetts. USGenNE states that the Reliability Agreement was negotiated between USGenNE and the ISO pursuant to section 18.5 of the Restated NEPOOL Agreement. USGenNE requests that the Commission issue an order within sixty (60) days of the date of the filing, or otherwise as expeditiously as possible. USGenNE further requests that the Commission grant a waiver of certain of the Commission's filing requirements in part 35 of the Commission's regulations, including the 60 and 120-day prior notice requirements to the extent necessary to permit the Reliability Agreement to become effective as described in the filing.

Comment Date: June 4, 2004.

10. PurEnergy Caledonia, LLC and Caledonia Energy, LLC

[Docket Nos. ER04-842-000 and ER01-1383-003]

Take notice that on May 13, 2004, PurEnergy Caledonia, LLC (PurEnergy Caledonia) submitted for filing with Commission its triennial updated market analysis in accordance with Appendix A of the Commission's April 27, 2001, Letter Order to Caledonia Generating, LLC in Docket No. ER01-1383-000. PurEnergy Caledonia states that it is the successor in interest to the market-based rate authority of Caledonia Generating, LLC. See Caledonia Generating, LLC, et al.,105 FERC ¶ 62,014 (2003). PurEnergy Caledonia also submitted certain revisions to its FERC Electric Tariff, Original Volume No. 1 to incorporate the Market Behavior Rules set forth in Investigation of Terms and Conditions of Public Utility Market-Based Rate Authorizations, 105 FERC ¶ 61,218 (2003).

Comment Date: June 3, 2004.

11. Calpine King City Cogen, LLC

[Docket Nos. QF85-735-005 and EL04-101-000]

Take notice that on May 12, 2004, Calpine King City Cogen, LLC (Applicant) tendered for filing a petition for limited waiver of the Commission's operating standard for a topping-cycle cogeneration facility.

Comment Date: June 11, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1199 Filed 5-21-04; 8:45 am]

BILLING CODE 6717-01-P